DEPARTMENT OF COMMERCE

National Oceanic and Atmospheric Administration

Public Meeting and Listening Session for Developing the National Ocean Service Strategic Plan

AGENCY: National Ocean Service, National Oceanic and Atmospheric Administration, U.S. Department of Commerce.

ACTION: Notice of public meeting and opportunity to comment.

SUMMARY: The National Oceanic and Atmospheric Administration, National Ocean Service (NOS) is currently developing a new strategic plan. NOS will hold a public meeting to solicit early input to inform the development of this plan.

DATES: The virtual public meeting will be held on Tuesday, September 27, 2022, from 3-4:30 p.m. eastern daylight time (EDT). NOAA may end the meeting before 4:30 p.m. EDT if all participants have concluded their oral comments.

ADDRESSES: The meeting will be held virtually using Adobe Connect. Participants may also join the meeting by phone using this toll-free number: 877-462-2185 with a passcode of 9687178. To register for the meeting please use this link https://noaabroadcast.adobeconnect.com/e31ixeyt0hw6/event/registration.html.

To provide oral comment during the virtual listening session, please sign up prior to the meeting by selecting the option to speak when you pre-register, or by contacting Michelle Rome by email at Michelle.Rome@noaa.gov or phone at 240-533-0669. Please indicate what topic(s) you would like to comment on, including: “Conserve, Restore, Connect,” “Diversity, Equity, Inclusion, Justice, and Accessibility,” “Coastal Resilience,” “New Blue Economy,” and “Other Input.” Participants may also sign-up to speak during the meeting. However, priority will be given to participants who pre-register to speak.

The meeting is accessible to people with disabilities. Closed captioning will be available. Requests for other auxiliary aids should be sent to Michelle.Rome@noaa.gov or by phone at 240-533-0669 by September 21, 2022.

Please note that the meeting will not be recorded. However, public comments, including any associated names, will be captured in the minutes of the meeting, will be maintained by the NOS as part of its administrative record, and may be subject to public release pursuant to the Freedom of Information Act. By signing up to provide a comment, you agree that these communications, including your name and comment, will be maintained as described here.

FOR FURTHER INFORMATION CONTACT: Ms. Michelle Rome, Executive Officer, NOS Assistant Administrator's Office, by email at Michelle.Rome@noaa.gov or phone at 240-533-0669.

SUPPLEMENTARY INFORMATION: NOS is developing a new strategic plan for 2024-2029. The strategic plan will define a future course as NOS continues to play a critical role in filling important needs for our national and coastal communities, including tackling the climate crisis, understanding and reversing declining ecosystem functions, and meeting the ever-expanding needs for authoritative environmental information.

This new plan also represents an opportunity for NOS to refresh our priorities, track our progress toward our goals, and align with the Department of Commerce (DOC) and NOAA strategic plans. Connecting these efforts, both across the agency and with partners, will allow us to achieve a greater impact through collaboration and information sharing.

We are seeking early input from the public as we begin to develop and define our long-term goals, objectives, and opportunities. In addition, we welcome your views on how external partnerships can help us better achieve our mission within NOS. Please consider the four priorities below and bring your ideas to the NOS Strategic Planning Listening Session on September 27, 2022. Participants are encouraged to sign-up to speak prior to the meeting by selecting the option to speak when you pre-register through this link https://noaabroadcast.adobeconnect.com/e31ixeyt0hw6/event/registration.html, or by contacting Michelle Rome by email at michelle.rome@noaa.gov or phone at 240-533-0669.

Conserve, Restore, Connect: America's ocean and coasts are facing significant and increasing pressures from human activity and climate change. NOS would like to hear your ideas on what is most needed to mitigate stressors, enhance degraded ecosystems, restore lost benefits, and provide value-added products and services that facilitate sustainable use, especially within marine protected areas. How can NOS data, observations, and scientific expertise be best utilized to achieve these aims? We'd also like to hear from you on how conserving and restoring ecosystems can address the causes and effects of the climate crisis.

Diversity, Equity, Inclusion, Justice, and Accessibility: Diversity, equity, inclusion, justice and accessibility are fundamental principles that underpin NOS values and how we conduct our mission, guiding our actions today and into the future. To ensure our mission benefits more communities across the nation and serves all people fairly and responsibly, NOS is interested in hearing your thoughts on how we can improve our efforts to equitably provide our data, products, and services. We'd also like your thoughts on how we can better leverage the various expertise and abilities of our external partners and additional organizations to attract, recruit and retain a diverse, highly-capable workforce, especially for future mission needs.

Coastal Resilience: U.S. coastal States, territories, communities, economies, and ecosystems are facing an array of event-based and long-term coastal hazards, including the impacts of changing water levels, land subsidence, marine debris, oil and chemical spills, harmful algal blooms, ocean acidification, and marine heat waves. Risk-informed decision making requires accurate and authoritative data, observations, modeling, mapping, and services that quantify and clearly communicate the drivers of coastal flood risk. NOS addresses this need by providing equitable access to actionable, authoritative data, products, and services relevant to coastal conditions and change that helps communities plan for both the near- and long-term resilience and adaptation of the nation's coasts in a changing climate. How can NOS coastal and ocean data, modeling, predictions, training, grants, tools, services, and products better support communities to prepare for increased near and long-term threats? How can we help ensure the equitable delivery of resilience information and resources to historically underserved communities?

New Blue Economy: NOS envisions a sustainable and equitable ocean and coastal economy that optimizes advances in science and technology to create value-added, data-driven economic opportunities and solutions to pressing societal needs. The New Blue Economy is focused on applying science and technology, especially the vast amounts of data and information they yield, to catalyze public and private sector innovation. By promoting U.S. development of new and improved data-derived products and services, NOS hopes to ensure that the nation has access to better tools to inform decision making across all Blue Economy sectors. How can NOS better support and accelerate the growth of the New Blue Economy? How can NOS support efforts to ensure there is a diverse and available talent pool and workforce that is essential to the success of the New Blue Economy?

Nicole R. LeBoeuf,
Assistant Administrator for Ocean Services and Coastal Zone Management, National Ocean Service, National Oceanic and Atmospheric Administration.

[FR Doc. 2022-20212 Filed 9-16-22; 8:45 am]

BILLING CODE 3510-JE-P